DEPARTMENT OF COMMERCE

Economic Development Administration

Notice of Petitions by Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period
[May 24, 2006 through June 16, 2006]
Firm | Address | Date petition accepted | Product
Janna Ugone Associates, Inc | 1 Cottage Street, Easthampton, MA 01027 | 5/31/06 | Decorative custom lighting fixtures.
ZNYX Networks, Inc | 48421 Milmont Drive, Fremont, CA 94538 | 5/23/06 | Data and voice network switches.
Trio Manufacturing Co | 2 North Jackson Street, Forsyth, GA 31029 | 5/31/06 | Manufactures and distributes cotton yarn.
Automated Emblem Supplies, Inc | 61 Green Street, Foxboro, MA 02035 | 6/1/06 | Decorative lapel pins and key tags.
Architectural Stairways | 1950 S. 4130 West, Salt Lake City, UT 84104 | 6/6/06 | Articles of wood.
St. George Crystal, Ltd | Brown Avenue, Jeannette, PA 15644 | 6/2/06 | Lead crystal ware.
Maco Bag Corporation | 412 Vanburen Street, Newark, NY 14513 | 6/2/06 | Heat sealable pouches, custom bags and contract packaging services.
Superior Woodcraft, Inc | 160 North Hamilton Street, Doylestown, PA 18901 | 6/2/06 | Custom wood cabinets.
Sure Power, Inc | 195 D Four Points Road, Jackson, GA 30233 | 6/6/06 | Alternators and starters for automobiles utilizing component parts.
Windham Millwork, Inc | 4 Architectural Drive, Windham, ME 04062 | 6/6/06 | Custom commercial cabinetry and woodwork.
Nantucket Post Cap Company, Inc | 44 Hull Street, Randolph, VT 05060 | 6/15/06 | Wood post caps, arbors, finials, gates, fences.
Eversharp Tool, Inc | 11350 E. 60th Place, Tulsa, OK 74146 | 6/15/06 | Cutting tools.

Any party having a substantial interest in these proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Dated: June 16, 2006.
Barry Bird,
Chief Counsel.

[FR Doc. E6-9918 Filed 6-22-06; 8:45 am]

BILLING CODE 3510-24-P